DEPARTMENT OF HOUSING AND URBAN DEVELOPMENT

[Docket No. FR-4768-C-04]

Notice of Funding Availability for Revitalization of Severely Distressed Public Housing HOPE VI Revitalization Grants Fiscal Year 2002; Notice of Technical Corrections

AGENCY: Office of Public and Indian Housing, HUD.

ACTION: Notice of Funding Availability for Revitalization of Severely Distressed Public Housing, HOPE VI Revitalization Grants, Notice of Technical Corrections.

SUMMARY: This notice makes two technical corrections to HUD's Fiscal Year (FY) 2002 Notice of Funding Availability for Revitalization of Severely Distressed Public Housing, HOPE VI Revitalization Grants.

DATES: Application Due Date. Revitalization grant applications are due to HUD Headquarters on or before 5:15 p.m., Eastern Time, on December 6, 2002.

FOR FURTHER INFORMATION CONTACT: Milan Ozdinec, Deputy Assistant Secretary for Public Housing Investments, Department of Housing and Urban Development, 451 Seventh Street, SW., Room 4130, Washington, DC 20410; telephone (202) 401-8812; fax (202) 401-2370 (these are not toll free numbers). Persons with hearing-or speech-impairments may call via TTY by calling the Federal Information Relay Service at (800) 877-8339.

SUPPLEMENTARY INFORMATION: On July 31, 2002 (67 FR 49766), HUD published its Fiscal Year (FY) 2002 Notice of Funding Availability for Revitalization of Severely Distressed Public Housing, HOPE VI Revitalization Grants (HOPE VI NOFA), which announced the availability of approximately $492.5 million in FY 2002 funds for the HOPE VI Revitalization Program. The July 31, 2002, HOPE VI NOFA provided an application due date of November 29, 2002. Because November 29, 2002, falls on the Friday after Thanksgiving, HUD extended the application due date under the July 31, 2002, HOPE VI NOFA for one week to Friday, December 6, 2002, in a notice published on September 27, 2002 (67 FR 61150). Additionally, in a notice published on October 23, 2002 (67 FR 65139), HUD announced a number of additional technical corrections. This notice makes two additional technical corrections to the July 31, 2002 HOPE VI NOFA.

In Section XIV(B)(4), HUD will reduce the time requirement by the length of the application deadline extension (7 days), meaning that an option must extend for least 173 days after the application deadline of December 6, 2002.

In Section XVI(A)(3) a new paragraph (e) will be added because the page limit of 150 pages of attachments stated under Section XVI(A)(2((b) does not apply to the NOFA criteria under Section XIV(B)(4) and Section XIV(B)(5)(a). Accordingly, documentation provided for attachments 27 and 28, as described in the 2002 HOPE VI Revitalization Application Kit, will not be counted.

Accordingly, FR Doc. 02-19276, the Fiscal Year (FY) 2002 Notice of Funding Availability for Revitalization of Severely Distressed Public Housing, HOPE VI Revitalization Grants, published in the Federal Register on July 31, 2002 (67 FR 49766) is corrected as follows:

1. On page 49783, Section XIV(B)(4) in column 3, remove the number “180” and insert in its place the number “173”.

2. On page 49785, Section XVI(A)(3), add paragraph (e) to read as follows:

(e) Documentation for NOFA criteria under Section XIV(B)(4) and Section XIV(B)(5)(a) (Mixed Income Communities).

Dated: November 5, 2002.
Michael Liu,
Assistant Secretary for Public and Indian Housing.

[FR Doc. 02-28480 Filed 11-5-02; 1:56 pm]

BILLING CODE 4210-33-P